DEPARTMENT OF HOMELAND SECURITY

Coast Guard

[Docket No. USCG-2018-0186]

Great Lakes Pilotage Advisory Committee

AGENCY: U.S. Coast Guard, Department of Homeland Security.

ACTION: Notice of Federal Advisory Committee teleconference meeting.

SUMMARY: The Great Lakes Pilotage Advisory Committee will meet via teleconference, to receive a brief out from the Subcommittee tasked to respond to the issuance of Executive Orders 13771, “Reducing Regulation and Controlling Regulatory Costs”; 13777, “Enforcing the Regulatory Reform Agenda;” and 13783, “Promoting Energy Independence and Economic Growth.” This teleconference will be open to the public.

DATES:

Meeting. The full Committee will meet on Wednesday, April 11, 2018, from 1 p.m. to 4:00 p.m. Eastern Daylight Time. This teleconference may close early if all business is finished.

Comments and supporting documents: To ensure your comments are reviewed by Committee members before the teleconference, submit your written comments no later than Wednesday, April 4, 2018.

ADDRESSES: To join the teleconference or to request special accommodations, contact the individual listed in the FOR FURTHER INFORMATION CONTACT section no later than Wednesday, April 4, 2018.

Instructions: You are free to submit comments at any time, including orally at the teleconference, but if you want Committee members to review your comment before the meeting, please submit your comments no later than April 4, 2018. We are particularly interested in comments on the issues in the “Agenda” section below. You must include “Department of Homeland Security” and the docket number USCG-2018-0186. Comments received will be posted without alteration at http://www.regulations.gov, including any personal information provided. For more information about privacy and docket, review Privacy and Security Notice for the Federal Docket Management System at http://www.regulations.gov/privacyNotice. Written comments may also be submitted using the Federal e-Rulemaking Portal at http://www.regulations.gov. If you encounter technical difficulties with comment submission, contact the individual listed in the FOR FURTHER INFORMATION CONTACT section of this notice.

Docket Search: For access to the docket or to read documents or comments related to this notice, go to http://www.regulations.gov, and use “USCG-2018-0186” in the “Search” box, press Enter, and then click on the item you wish to view.

FOR FURTHER INFORMATION CONTACT: Mr. Todd Haviland, 2703 Martin Luther King Jr. Avenue SE, Washington, DC 20593, Stop 7509, Washington, DC 20593-7581; telephone 202-372-2037 or email Todd.A.Haviland@uscg.mil.

SUPPLEMENTARY INFORMATION: Notice of this meeting is in compliance with the Federal Advisory Committee Act (Title 5, U.S.C. Appendix). The Great Lakes Pilotage Advisory Committee is established under the authority of 46 U.S.C. 9307, and makes recommendations to the Secretary of Homeland Security and the Coast Guard on matters relating to Great Lakes pilotage, including review of proposed Great Lakes pilotage regulations and policies.

Agenda of Meeting

(1) Introduction.

(2) Roll call of Committee members and determination of a quorum.

(3) Regulations Reform Subcommittee Report.

(4) Discussion of Regulatory Reform Task #01-17—Input to Support Regulatory Reform of U.S. Coast Guard Regulations—Executive Orders 13771 and 13783.

(5) Public Comment period.

(6) Formulate recommendation regarding Task #01-17.

A copy of all meeting documentation will be available at http://www.dco.uscg.mil/Our-Organization/Assistant-Commandant-for-Prevention-Policy-CG-5P/Marine-Transportation-Systems-CG-5PW/Office-of-Waterways-and-Ocean-Policy/Office-of-Waterways-and-Ocean-Policy-Great-Lakes-Pilotage-Div/ by April 4, 2018. Alternatively, you may contact Mr. Todd Haviland as noted in the FOR FURTHER INFORMATION CONTACT section above.

There will be a public comment period during the meeting. Speakers are requested to limit their comments to 3 minutes and keep their remarks to the topic of the Regulation Reform. Please note that the public comment period may end before the period allotted, following the last call for comments. Contact the individual listed in the FOR FURTHER INFORMATION CONTACT section above to register as a speaker.

Dated: March, 9 2018.
Michael D. Emerson,
Director, Marine Transportation Systems.

[FR Doc. 2018-05609 Filed 3-19-18; 8:45 am]

BILLING CODE 9110-04-P